DEPARTMENT OF HOUSING AND URBAN DEVELOPMENT

[Docket No. FR-6090-N-01]

Notice of Annual Factors for Determining Public Housing Agency Administrative Fees for the Section 8 Housing Choice Voucher, Mainstream, and Moderate Rehabilitation Programs

AGENCY: Office of the Assistant Secretary for Public and Indian Housing, HUD.

ACTION: Notice.

SUMMARY: This Notice announces the monthly per unit fee rates for use in determining the on-going administrative fees for housing agencies administering the Housing Choice Voucher (HCV), 5 Year Mainstream, and Moderate Rehabilitation programs, including Single Room Occupancy, during calendar year (CY) 2018.

DATES: Applicability Date: January 1, 2018.

FOR FURTHER INFORMATION CONTACT: Miguel A. Fontánez, Director, Housing Voucher Financial Management Division, Office of Public Housing and Voucher Programs, Office of Public and Indian Housing, Department of Housing and Urban Development, Room 4222, 451 Seventh Street SW, Washington, DC 20410-8000, telephone number 202-402-2934. (This is not a toll-free number). Hearing or speech impaired individuals may call TTY number 1-800-877-8337.

SUPPLEMENTARY INFORMATION:

A. Background

This Notice provides the Department's methodology used to determine the CY 2018 administrative fee rates by area, which the Office of Housing Voucher Programs (OHVP) will use to compensate public housing agencies (PHA) for administering the HCV programs.

B. CY 2018 Methodology

For CY 2018, in accordance with the Continuing Resolution (or Appropriations Act superseding it after March 26, 2018), administrative fees will be earned on the basis of vouchers leased as of the first day of each month. This data will be extracted from the Voucher Management System (VMS) at the close of each reporting cycle and validated prior to use.

Two fee rates are provided for each PHA. The first rate, Column A, applies to the first 7200 voucher unit months leased in CY 2018. The second rate, Column B, applies to all remaining voucher unit months leased in CY 2018. In years prior to 2010, a Column C rate was also established, which applied to all voucher unit months leased in dwelling units owned by the PHA. For CY 2018, as in recent years, there are no Column C administrative fee rates. Fees for leasing HA-owned units will be earned in the same manner and at the same Column A and Column B rates as for all other Voucher leasing.

The fee rates established for CY 2018, using the standard procedures, in some cases resulted in fee rates lower than those established for CY 2017. In those cases, the affected PHAs are being held harmless at the CY 2017 fee rates.

The fee rates for each PHA are generally those rates covering the fee areas in which each PHA has the greatest proportion of its participants, based on Public Housing Information Center (PIC) data submitted by the PHA. In some cases, PHAs have participants in more than one fee area. If such a PHA so chooses, the PHA may request that the Department establish a blended fee rate schedule that will consider proportionately all areas in which participants are located. Once a blended rate schedule is established, it will be used to determine the PHA's fee eligibility for all months in CY 2018. The PHAs will be advised via the 2018 HCV Funding Implementation Notice of when they may apply for blended fee rates and the deadline date for submitting such requests.

PHAs that operate over a large geographic area, defined as multiple counties, may request a higher administrative fee rate if eligible under the circumstance which will be described in the CY 2018 HCV Funding Implementation Notice. This notice will advise the PHAs when to apply for higher fee rates and the deadline date for such requests.

Accordingly, the Department issues the monthly per voucher unit fee rates to be used to determine PHA administrative fee eligibility for the programs identified in this Notice. These fee rates are posted on HUD's website at: http://portal.hud.gov/hudportal/HUD?src=/program_offices/public_indian_housing/programs/hcv., under Program Related Information.

Any questions concerning this Notice should be directed to the PHA's assigned representative at the Financial Management Center or to the Financial Management Division at PIH.Financial.Management.Division@hud.gov.

C. MTW Agencies

Where an MTW Agency has an alternative formula for calculating HCV Administrative Fees in Attachment A of their MTW Agreements, HUD will continue to calculate the HCV Administrative Fees in accordance with that MTW Agreement provision.

Dated: March 27, 2018.
Dominique Blom,
General Deputy Assistant Secretary for Public and Indian Housing.

PHA | Column A rate | Column B rate
AK901 | 96.19 | 89.78
AL001 | 65.11 | 60.77
AL002 | 66.13 | 61.73
AL004 | 64.25 | 59.97
AL005 | 66.56 | 62.12
AL006 | 64.25 | 59.97
AL007 | 64.25 | 59.97
AL008 | 63.00 | 58.80
AL011 | 63.00 | 58.80
AL012 | 64.25 | 59.97
AL014 | 63.00 | 58.80
AL047 | 66.15 | 61.75
AL048 | 64.25 | 59.97
AL049 | 64.25 | 59.97
AL050 | 64.25 | 59.97
AL052 | 63.00 | 58.80
AL053 | 63.00 | 58.80
AL054 | 64.25 | 59.97
AL060 | 63.00 | 58.80
AL061 | 64.25 | 59.97
AL063 | 65.11 | 60.77
AL068 | 64.25 | 59.97
AL069 | 65.11 | 60.77
AL072 | 65.11 | 60.77
AL073 | 63.16 | 58.94
AL075 | 63.00 | 58.80
AL077 | 64.25 | 59.97
AL086 | 65.11 | 60.77
AL090 | 63.00 | 58.80
AL091 | 63.00 | 58.80
AL099 | 63.00 | 58.80
AL105 | 63.00 | 58.80
AL107 | 63.00 | 58.80
AL112 | 63.00 | 58.80
AL114 | 63.00 | 58.80
AL115 | 63.00 | 58.80
AL116 | 63.00 | 58.80
AL118 | 63.00 | 58.80
AL121 | 63.00 | 58.80
AL124 | 63.16 | 58.94
AL125 | 65.11 | 60.77
AL129 | 64.25 | 59.97
AL131 | 64.25 | 59.97
AL138 | 64.25 | 59.97
AL139 | 64.25 | 59.97
AL152 | 64.25 | 59.97
AL154 | 63.00 | 58.80
AL155 | 63.00 | 58.80
AL160 | 63.00 | 58.80
AL165 | 67.09 | 62.63
AL169 | 66.13 | 61.73
AL171 | 63.00 | 58.80
AL172 | 64.25 | 59.97
AL174 | 63.00 | 58.80
AL177 | 63.00 | 58.80
AL181 | 63.00 | 58.80
AL192 | 63.00 | 58.80
AL202 | 66.13 | 61.73
AR002 | 69.40 | 64.78
AR003 | 63.61 | 59.37
AR004 | 69.40 | 64.78
AR006 | 69.40 | 64.78
AR010 | 60.90 | 56.84
AR012 | 60.90 | 56.84
AR015 | 62.37 | 58.21
AR016 | 60.90 | 56.84
AR017 | 63.61 | 59.37
AR020 | 60.90 | 56.84
AR024 | 64.89 | 60.56
AR031 | 63.61 | 59.37
AR033 | 60.90 | 56.84
AR034 | 63.61 | 59.37
AR035 | 60.90 | 56.84
AR037 | 60.90 | 56.84
AR039 | 60.90 | 56.84
AR041 | 69.40 | 64.78
AR042 | 63.61 | 59.37
AR045 | 60.90 | 56.84
AR052 | 60.90 | 56.84
AR059 | 60.90 | 56.84
AR066 | 60.90 | 56.84
AR068 | 60.90 | 56.84
AR082 | 60.90 | 56.84
AR104 | 63.61 | 59.37
AR117 | 60.90 | 56.84
AR121 | 60.90 | 56.84
AR131 | 63.61 | 59.37
AR135 | 60.90 | 56.84
AR152 | 60.90 | 56.84
AR161 | 60.90 | 56.84
AR163 | 63.61 | 59.37
AR166 | 60.90 | 56.84
AR170 | 69.40 | 64.78
AR175 | 69.40 | 64.78
AR176 | 60.90 | 56.84
AR177 | 60.90 | 56.84
AR181 | 63.61 | 59.37
AR194 | 63.61 | 59.37
AR197 | 60.90 | 56.84
AR200 | 60.90 | 56.84
AR210 | 60.90 | 56.84
AR211 | 60.90 | 56.84
AR213 | 60.90 | 56.84
AR214 | 60.90 | 56.84
AR215 | 60.90 | 56.84
AR219 | 69.40 | 64.78
AR223 | 60.90 | 56.84
AR224 | 60.90 | 56.84
AR225 | 60.90 | 56.84
AR232 | 63.61 | 59.37
AR240 | 60.90 | 56.84
AR241 | 63.66 | 59.42
AR247 | 60.90 | 56.84
AR252 | 69.40 | 64.78
AR257 | 60.90 | 56.84
AR264 | 64.89 | 60.56
AR265 | 60.90 | 56.84
AR266 | 60.90 | 56.84
AZ001 | 69.65 | 65.00
AZ003 | 69.65 | 65.00
AZ004 | 68.85 | 64.26
AZ005 | 69.65 | 65.00
AZ006 | 76.15 | 71.08
AZ008 | 55.29 | 51.60
AZ009 | 69.65 | 65.00
AZ010 | 69.65 | 65.00
AZ013 | 77.38 | 72.22
AZ021 | 69.65 | 65.00
AZ023 | 58.25 | 54.37
AZ025 | 68.85 | 64.26
AZ028 | 69.65 | 65.00
AZ031 | 69.65 | 65.00
AZ032 | 69.65 | 65.00
AZ033 | 68.85 | 64.26
AZ034 | 57.22 | 53.41
AZ035 | 77.38 | 72.22
AZ037 | 57.22 | 53.41
AZ041 | 76.15 | 71.08
AZ043 | 93.25 | 87.04
AZ045 | 57.29 | 53.47
AZ880 | 69.65 | 65.00
AZ901 | 76.15 | 71.08
CA001 | 121.22 | 113.15
CA002 | 121.22 | 113.15
CA003 | 121.22 | 113.15
CA004 | 121.22 | 113.15
CA005 | 92.06 | 85.92
CA006 | 84.47 | 78.83
CA007 | 92.06 | 85.92
CA008 | 92.38 | 86.22
CA010 | 121.22 | 113.15
CA011 | 121.22 | 113.15
CA014 | 121.22 | 113.15
CA019 | 96.71 | 90.27
CA021 | 118.37 | 110.46
CA022 | 96.71 | 90.27
CA023 | 79.37 | 74.08
CA024 | 88.34 | 82.46
CA026 | 88.95 | 83.01
CA027 | 96.71 | 90.27
CA028 | 84.47 | 78.83
CA030 | 78.77 | 73.53
CA031 | 121.22 | 113.15
CA032 | 121.22 | 113.15
CA033 | 104.44 | 97.46
CA035 | 121.22 | 113.15
CA039 | 87.90 | 82.04
CA041 | 105.24 | 98.22
CA043 | 81.18 | 75.76
CA044 | 92.06 | 85.92
CA048 | 69.66 | 65.02
CA052 | 121.22 | 113.15
CA053 | 76.24 | 71.15
CA055 | 105.24 | 98.22
CA056 | 121.22 | 113.15
CA058 | 121.22 | 113.15
CA059 | 121.22 | 113.15
CA060 | 121.22 | 113.15
CA061 | 80.05 | 74.72
CA062 | 121.22 | 113.15
CA063 | 108.39 | 101.15
CA064 | 104.94 | 97.94
CA065 | 105.24 | 98.22
CA066 | 105.24 | 98.22
CA067 | 121.22 | 113.15
CA068 | 121.22 | 113.15
CA069 | 84.47 | 78.83
CA070 | 73.26 | 68.38
CA071 | 121.22 | 113.15
CA072 | 121.22 | 113.15
CA073 | 105.24 | 98.22
CA074 | 121.22 | 113.15
CA075 | 121.22 | 113.15
CA076 | 118.37 | 110.46
CA077 | 108.39 | 101.15
CA079 | 121.22 | 113.15
CA082 | 121.22 | 113.15
CA084 | 86.28 | 80.52
CA085 | 118.23 | 110.36
CA086 | 82.47 | 76.96
CA088 | 118.23 | 110.36
CA092 | 121.22 | 113.15
CA093 | 121.22 | 113.15
CA094 | 121.22 | 113.15
CA096 | 84.47 | 78.83
CA102 | 121.22 | 113.15
CA103 | 121.22 | 113.15
CA104 | 121.22 | 113.15
CA105 | 121.22 | 113.15
CA106 | 84.47 | 78.83
CA108 | 108.39 | 101.15
CA110 | 121.22 | 113.15
CA111 | 121.22 | 113.15
CA114 | 121.22 | 113.15
CA116 | 108.39 | 101.15
CA117 | 121.22 | 113.15
CA118 | 121.22 | 113.15
CA119 | 121.22 | 113.15
CA120 | 121.22 | 113.15
CA121 | 121.22 | 113.15
CA123 | 121.22 | 113.15
CA125 | 105.24 | 98.22
CA126 | 121.22 | 113.15
CA128 | 92.06 | 85.92
CA131 | 105.24 | 98.22
CA132 | 108.39 | 101.15
CA136 | 121.22 | 113.15
CA143 | 87.90 | 82.04
CA144 | 80.05 | 74.72
CA149 | 92.06 | 85.92
CA151 | 92.06 | 85.92
CA155 | 108.39 | 101.15
CO001 | 73.82 | 68.90
CO002 | 68.19 | 63.64
CO005 | 76.47 | 71.37
CO006 | 65.46 | 61.09
CO016 | 83.77 | 78.18
CO019 | 73.82 | 68.90
CO024 | 65.46 | 61.09
CO028 | 68.87 | 64.28
CO031 | 65.46 | 61.09
CO034 | 79.38 | 74.10
CO035 | 68.45 | 63.89
CO036 | 73.82 | 68.90
CO040 | 101.08 | 94.35
CO041 | 79.38 | 74.10
CO043 | 76.47 | 71.37
CO045 | 65.46 | 61.09
CO048 | 73.82 | 68.90
CO049 | 73.82 | 68.90
CO050 | 73.82 | 68.90
CO051 | 86.36 | 80.60
CO052 | 73.82 | 68.90
CO057 | 73.82 | 68.90
CO058 | 73.82 | 68.90
CO061 | 83.77 | 78.18
CO070 | 83.77 | 78.18
CO071 | 68.87 | 64.28
CO072 | 73.82 | 68.90
CO079 | 76.47 | 71.37
CO087 | 101.08 | 94.35
CO090 | 68.45 | 63.89
CO095 | 96.65 | 90.21
CO101 | 65.46 | 61.09
CO103 | 79.38 | 74.10
CO888 | 68.19 | 63.64
CO911 | 73.82 | 68.90
CO921 | 73.82 | 68.90
CT001 | 95.06 | 88.72
CT002 | 101.89 | 95.11
CT003 | 89.59 | 83.61
CT004 | 98.76 | 92.17
CT005 | 89.59 | 83.61
CT006 | 80.63 | 75.25
CT007 | 101.89 | 95.11
CT008 | 89.59 | 83.61
CT009 | 89.59 | 83.61
CT010 | 79.11 | 73.83
CT011 | 98.76 | 92.17
CT013 | 89.59 | 83.61
CT015 | 95.06 | 88.72
CT017 | 95.06 | 88.72
CT018 | 87.95 | 82.09
CT019 | 101.89 | 95.11
CT020 | 101.89 | 95.11
CT023 | 89.59 | 83.61
CT024 | 79.11 | 73.83
CT026 | 89.59 | 83.61
CT027 | 95.06 | 88.72
CT028 | 89.59 | 83.61
CT029 | 98.76 | 92.17
CT030 | 95.06 | 88.72
CT031 | 79.11 | 73.83
CT032 | 89.59 | 83.61
CT033 | 89.59 | 83.61
CT036 | 89.59 | 83.61
CT038 | 89.59 | 83.61
CT039 | 89.59 | 83.61
CT040 | 89.59 | 83.61
CT041 | 89.59 | 83.61
CT042 | 98.76 | 92.17
CT047 | 80.63 | 75.25
CT048 | 89.59 | 83.61
CT049 | 89.59 | 83.61
CT051 | 89.59 | 83.61
CT052 | 95.06 | 88.72
CT053 | 89.59 | 83.61
CT058 | 79.11 | 73.83
CT061 | 79.11 | 73.83
CT063 | 98.76 | 92.17
CT067 | 98.76 | 92.17
CT068 | 89.59 | 83.61
CT901 | 89.59 | 83.61
DC001 | 111.97 | 104.51
DC880 | 111.97 | 104.51
DE001 | 88.71 | 82.80
DE002 | 77.88 | 72.69
DE003 | 88.71 | 82.80
DE005 | 88.71 | 82.80
DE901 | 77.88 | 72.69
FL001 | 70.87 | 66.15
FL002 | 74.82 | 69.83
FL003 | 74.82 | 69.83
FL004 | 78.15 | 72.93
FL005 | 101.53 | 94.77
FL007 | 75.01 | 70.01
FL008 | 82.12 | 76.64
FL009 | 79.29 | 74.00
FL010 | 95.07 | 88.73
FL011 | 62.28 | 58.12
FL013 | 103.66 | 96.76
FL015 | 66.59 | 62.15
FL017 | 101.53 | 94.77
FL018 | 60.83 | 56.78
FL019 | 72.14 | 67.35
FL020 | 72.14 | 67.35
FL021 | 79.29 | 74.00
FL022 | 75.01 | 70.01
FL023 | 82.12 | 76.64
FL024 | 75.01 | 70.01
FL025 | 72.14 | 67.35
FL026 | 62.28 | 58.12
FL028 | 95.07 | 88.73
FL030 | 70.87 | 66.15
FL031 | 60.29 | 56.27
FL032 | 61.32 | 57.22
FL033 | 78.15 | 72.93
FL034 | 74.82 | 69.83
FL035 | 60.83 | 56.78
FL037 | 70.87 | 66.15
FL041 | 79.71 | 74.40
FL045 | 79.71 | 74.40
FL046 | 60.83 | 56.78
FL047 | 78.66 | 73.43
FL049 | 60.29 | 56.27
FL053 | 61.32 | 57.22
FL057 | 60.29 | 56.27
FL060 | 76.61 | 71.50
FL062 | 74.82 | 69.83
FL063 | 67.24 | 62.75
FL066 | 101.53 | 94.77
FL068 | 101.53 | 94.77
FL069 | 60.83 | 56.78
FL070 | 67.24 | 62.75
FL071 | 62.28 | 58.12
FL072 | 75.01 | 70.01
FL073 | 66.59 | 62.15
FL075 | 74.82 | 69.83
FL079 | 95.07 | 88.73
FL080 | 79.29 | 74.00
FL081 | 95.07 | 88.73
FL083 | 79.29 | 74.00
FL092 | 61.32 | 57.22
FL093 | 78.15 | 72.93
FL102 | 60.83 | 56.78
FL104 | 74.82 | 69.83
FL105 | 82.12 | 76.64
FL106 | 78.15 | 72.93
FL109 | 60.29 | 56.27
FL110 | 60.83 | 56.78
FL113 | 75.01 | 70.01
FL116 | 95.07 | 88.73
FL119 | 79.29 | 74.00
FL123 | 76.07 | 71.00
FL128 | 78.66 | 73.43
FL132 | 79.42 | 74.14
FL136 | 95.07 | 88.73
FL137 | 74.82 | 69.83
FL139 | 62.28 | 58.12
FL141 | 81.86 | 76.40
FL144 | 103.66 | 96.76
FL145 | 101.53 | 94.77
FL147 | 60.83 | 56.78
FL201 | 78.15 | 72.93
FL202 | 60.29 | 56.27
FL881 | 101.53 | 94.77
FL888 | 74.82 | 69.83
GA001 | 66.56 | 62.12
GA002 | 66.56 | 62.12
GA004 | 66.56 | 62.12
GA006 | 81.15 | 75.73
GA007 | 66.56 | 62.12
GA009 | 66.56 | 62.12
GA010 | 81.15 | 75.73
GA011 | 81.15 | 75.73
GA023 | 66.56 | 62.12
GA062 | 63.11 | 58.90
GA078 | 81.15 | 75.73
GA095 | 81.15 | 75.73
GA116 | 81.15 | 75.73
GA188 | 81.15 | 75.73
GA228 | 81.15 | 75.73
GA232 | 81.15 | 75.73
GA237 | 81.15 | 75.73
GA264 | 81.15 | 75.73
GA269 | 81.15 | 75.73
GA285 | 66.56 | 62.12
GA901 | 81.15 | 75.73
GQ901 | 112.56 | 105.07
HI002 | 110.24 | 102.89
HI003 | 122.06 | 113.94
HI004 | 122.08 | 113.95
HI005 | 124.17 | 115.90
HI901 | 122.06 | 113.94
IA002 | 64.50 | 60.20
IA004 | 67.81 | 63.29
IA015 | 64.50 | 60.20
IA018 | 67.92 | 63.40
IA020 | 77.53 | 72.37
IA022 | 79.02 | 73.76
IA023 | 68.21 | 63.67
IA024 | 75.05 | 70.05
IA030 | 64.50 | 60.20
IA038 | 75.35 | 70.32
IA042 | 64.50 | 60.20
IA045 | 70.61 | 65.90
IA047 | 64.50 | 60.20
IA049 | 64.50 | 60.20
IA050 | 75.35 | 70.32
IA054 | 64.50 | 60.20
IA056 | 64.50 | 60.20
IA057 | 64.50 | 60.20
IA084 | 64.50 | 60.20
IA087 | 69.46 | 64.83
IA098 | 67.95 | 63.43
IA100 | 64.50 | 60.20
IA107 | 64.50 | 60.20
IA108 | 64.50 | 60.20
IA113 | 75.35 | 70.32
IA114 | 64.50 | 60.20
IA117 | 68.21 | 63.67
IA119 | 64.50 | 60.20
IA120 | 77.53 | 72.37
IA122 | 64.50 | 60.20
IA124 | 64.50 | 60.20
IA125 | 64.50 | 60.20
IA126 | 70.61 | 65.90
IA127 | 64.50 | 60.20
IA128 | 64.50 | 60.20
IA129 | 64.50 | 60.20
IA130 | 64.50 | 60.20
IA131 | 77.53 | 72.37
IA132 | 75.35 | 70.32
IA136 | 64.67 | 60.36
ID005 | 64.88 | 60.56
ID013 | 80.63 | 75.25
ID016 | 80.63 | 75.25
ID021 | 80.63 | 75.25
ID901 | 67.16 | 62.68
IL002 | 93.48 | 87.24
IL003 | 73.82 | 68.89
IL004 | 67.27 | 62.78
IL006 | 65.88 | 61.49
IL009 | 70.61 | 65.90
IL010 | 70.61 | 65.90
IL011 | 59.78 | 55.80
IL012 | 63.65 | 59.41
IL014 | 71.51 | 66.75
IL015 | 64.46 | 60.16
IL016 | 59.78 | 55.80
IL018 | 70.61 | 65.90
IL020 | 70.61 | 65.90
IL022 | 67.13 | 62.65
IL024 | 93.48 | 87.24
IL025 | 93.48 | 87.24
IL026 | 93.48 | 87.24
IL028 | 67.27 | 62.78
IL030 | 64.46 | 60.16
IL032 | 71.51 | 66.75
IL034 | 65.88 | 61.49
IL035 | 71.51 | 66.75
IL036 | 59.78 | 55.80
IL037 | 59.78 | 55.80
IL038 | 59.78 | 55.80
IL039 | 63.78 | 59.53
IL040 | 59.78 | 55.80
IL042 | 59.78 | 55.80
IL043 | 59.78 | 55.80
IL050 | 59.78 | 55.80
IL051 | 65.65 | 61.28
IL052 | 59.78 | 55.80
IL053 | 59.78 | 55.80
IL054 | 93.48 | 87.24
IL056 | 93.48 | 87.24
IL057 | 59.78 | 55.80
IL059 | 59.78 | 55.80
IL061 | 60.49 | 56.45
IL074 | 64.46 | 60.16
IL076 | 59.78 | 55.80
IL079 | 59.78 | 55.80
IL082 | 59.78 | 55.80
IL083 | 67.13 | 62.65
IL084 | 63.41 | 59.19
IL085 | 61.03 | 56.97
IL086 | 63.41 | 59.19
IL087 | 59.78 | 55.80
IL088 | 59.78 | 55.80
IL089 | 74.08 | 69.14
IL090 | 93.48 | 87.24
IL091 | 59.78 | 55.80
IL092 | 93.48 | 87.24
IL095 | 70.12 | 65.44
IL096 | 59.78 | 55.80
IL101 | 93.48 | 87.24
IL103 | 93.48 | 87.24
IL104 | 73.82 | 68.89
IL107 | 93.48 | 87.24
IL116 | 93.48 | 87.24
IL117 | 65.65 | 61.28
IL120 | 59.78 | 55.80
IL122 | 67.13 | 62.65
IL123 | 59.78 | 55.80
IL124 | 73.82 | 68.89
IL126 | 59.78 | 55.80
IL130 | 93.48 | 87.24
IL131 | 70.61 | 65.90
IL136 | 93.48 | 87.24
IL137 | 94.28 | 87.99
IL901 | 93.48 | 87.24
IN002 | 51.38 | 47.95
IN003 | 57.12 | 53.33
IN004 | 53.21 | 49.66
IN005 | 53.21 | 49.66
IN006 | 63.16 | 58.95
IN007 | 55.57 | 51.87
IN009 | 51.38 | 47.95
IN010 | 69.74 | 65.10
IN011 | 69.74 | 65.10
IN012 | 60.17 | 56.16
IN015 | 56.23 | 52.48
IN016 | 55.21 | 51.53
IN017 | 63.16 | 58.95
IN018 | 51.38 | 47.95
IN019 | 55.09 | 51.41
IN020 | 56.23 | 52.48
IN021 | 53.21 | 49.66
IN022 | 56.61 | 52.85
IN023 | 60.17 | 56.16
IN025 | 60.17 | 56.16
IN026 | 55.20 | 51.52
IN029 | 69.74 | 65.10
IN031 | 51.38 | 47.95
IN032 | 52.30 | 48.81
IN035 | 53.21 | 49.66
IN037 | 55.21 | 51.53
IN041 | 51.38 | 47.95
IN043 | 51.38 | 47.95
IN047 | 51.38 | 47.95
IN048 | 51.38 | 47.95
IN050 | 51.38 | 47.95
IN055 | 52.30 | 48.81
IN056 | 53.78 | 50.19
IN058 | 57.64 | 53.81
IN060 | 51.38 | 47.95
IN062 | 55.15 | 51.49
IN067 | 51.38 | 47.95
IN071 | 61.00 | 56.93
IN073 | 51.38 | 47.95
IN077 | 52.30 | 48.81
IN078 | 53.78 | 50.19
IN079 | 63.16 | 58.95
IN080 | 63.16 | 58.95
IN084 | 51.38 | 47.95
IN086 | 51.38 | 47.95
IN091 | 51.38 | 47.95
IN092 | 51.38 | 47.95
IN094 | 53.34 | 49.78
IN100 | 56.23 | 52.48
IN101 | 55.20 | 51.52
IN901 | 63.16 | 58.95
KS001 | 62.67 | 58.48
KS002 | 59.06 | 55.13
KS004 | 63.63 | 59.38
KS006 | 56.07 | 52.33
KS017 | 56.07 | 52.33
KS038 | 56.07 | 52.33
KS041 | 56.07 | 52.33
KS043 | 62.67 | 58.48
KS053 | 65.26 | 60.91
KS062 | 56.07 | 52.33
KS063 | 56.07 | 52.33
KS068 | 62.67 | 58.48
KS073 | 63.63 | 59.38
KS091 | 56.07 | 52.33
KS149 | 56.07 | 52.33
KS159 | 56.07 | 52.33
KS161 | 56.07 | 52.33
KS162 | 62.67 | 58.48
KS165 | 56.07 | 52.33
KS166 | 56.07 | 52.33
KS167 | 56.07 | 52.33
KS168 | 59.06 | 55.13
KS169 | 63.63 | 59.38
KS170 | 56.07 | 52.33
KY001 | 60.17 | 56.16
KY003 | 55.54 | 51.84
KY004 | 66.64 | 62.20
KY007 | 54.52 | 50.89
KY008 | 54.52 | 50.89
KY009 | 60.17 | 56.16
KY011 | 65.73 | 61.35
KY012 | 55.21 | 51.53
KY015 | 67.62 | 63.10
KY017 | 54.52 | 50.89
KY021 | 54.52 | 50.89
KY022 | 54.52 | 50.89
KY026 | 54.52 | 50.89
KY027 | 54.52 | 50.89
KY035 | 54.52 | 50.89
KY040 | 54.52 | 50.89
KY047 | 54.52 | 50.89
KY053 | 54.52 | 50.89
KY056 | 54.52 | 50.89
KY061 | 66.64 | 62.20
KY071 | 60.61 | 56.57
KY086 | 54.52 | 50.89
KY107 | 54.52 | 50.89
KY121 | 54.52 | 50.89
KY132 | 60.38 | 56.36
KY133 | 67.62 | 63.10
KY135 | 67.62 | 63.10
KY136 | 67.62 | 63.10
KY137 | 54.52 | 50.89
KY138 | 54.52 | 50.89
KY140 | 66.64 | 62.20
KY141 | 54.52 | 50.89
KY142 | 59.61 | 55.63
KY150 | 54.52 | 50.89
KY157 | 54.52 | 50.89
KY160 | 54.52 | 50.89
KY161 | 59.61 | 55.63
KY163 | 54.52 | 50.89
KY169 | 54.52 | 50.89
KY171 | 60.17 | 56.16
KY901 | 66.64 | 62.20
LA001 | 70.16 | 65.47
LA002 | 68.68 | 64.11
LA003 | 75.75 | 70.70
LA004 | 65.55 | 61.18
LA005 | 65.55 | 61.18
LA006 | 65.55 | 61.18
LA009 | 75.75 | 70.70
LA012 | 70.16 | 65.47
LA013 | 70.16 | 65.47
LA023 | 65.55 | 61.18
LA024 | 65.07 | 60.73
LA029 | 65.55 | 61.18
LA031 | 65.07 | 60.73
LA032 | 65.55 | 61.18
LA033 | 65.07 | 60.73
LA036 | 65.07 | 60.73
LA037 | 69.99 | 65.33
LA046 | 65.55 | 61.18
LA057 | 65.55 | 61.18
LA063 | 65.55 | 61.18
LA067 | 65.07 | 60.73
LA074 | 65.07 | 60.73
LA086 | 65.07 | 60.73
LA094 | 70.16 | 65.47
LA097 | 65.07 | 60.73
LA101 | 75.75 | 70.70
LA103 | 70.16 | 65.47
LA104 | 65.55 | 61.18
LA111 | 65.07 | 60.73
LA114 | 65.07 | 60.73
LA115 | 65.07 | 60.73
LA120 | 65.55 | 61.18
LA122 | 65.55 | 61.18
LA125 | 65.07 | 60.73
LA128 | 65.07 | 60.73
LA129 | 65.55 | 61.18
LA132 | 65.07 | 60.73
LA159 | 65.07 | 60.73
LA163 | 65.07 | 60.73
LA165 | 65.55 | 61.18
LA166 | 65.07 | 60.73
LA168 | 65.55 | 61.18
LA169 | 65.07 | 60.73
LA171 | 65.55 | 61.18
LA172 | 65.55 | 61.18
LA173 | 65.55 | 61.18
LA174 | 65.55 | 61.18
LA178 | 65.55 | 61.18
LA179 | 65.55 | 61.18
LA181 | 70.16 | 65.47
LA182 | 65.07 | 60.73
LA184 | 68.68 | 64.11
LA186 | 65.55 | 61.18
LA187 | 70.16 | 65.47
LA188 | 65.07 | 60.73
LA189 | 65.55 | 61.18
LA190 | 68.68 | 64.11
LA192 | 65.07 | 60.73
LA194 | 67.18 | 62.71
LA195 | 65.07 | 60.73
LA196 | 65.55 | 61.18
LA199 | 75.75 | 70.70
LA202 | 75.75 | 70.70
LA204 | 75.75 | 70.70
LA205 | 75.75 | 70.70
LA206 | 65.55 | 61.18
LA207 | 65.55 | 61.18
LA211 | 67.18 | 62.71
LA212 | 65.07 | 60.73
LA213 | 69.99 | 65.33
LA214 | 65.55 | 61.18
LA215 | 65.07 | 60.73
LA219 | 75.75 | 70.70
LA220 | 65.07 | 60.73
LA222 | 65.07 | 60.73
LA229 | 65.07 | 60.73
LA230 | 68.68 | 64.11
LA232 | 65.07 | 60.73
LA233 | 65.07 | 60.73
LA238 | 70.16 | 65.47
LA241 | 65.07 | 60.73
LA242 | 65.07 | 60.73
LA246 | 65.07 | 60.73
LA247 | 65.07 | 60.73
LA248 | 65.07 | 60.73
LA253 | 67.18 | 62.71
LA257 | 65.07 | 60.73
LA258 | 65.07 | 60.73
LA266 | 65.55 | 61.18
LA888 | 68.68 | 64.11
LA889 | 70.16 | 65.47
LA903 | 70.16 | 65.47
MA001 | 113.70 | 106.13
MA002 | 122.89 | 114.69
MA003 | 122.89 | 114.69
MA005 | 113.70 | 106.13
MA006 | 113.76 | 106.18
MA007 | 113.70 | 106.13
MA008 | 113.70 | 106.13
MA010 | 113.70 | 106.13
MA012 | 113.70 | 106.13
MA013 | 122.89 | 114.69
MA014 | 122.89 | 114.69
MA015 | 122.89 | 114.69
MA016 | 122.89 | 114.69
MA017 | 122.89 | 114.69
MA018 | 113.76 | 106.18
MA019 | 122.89 | 114.69
MA020 | 122.89 | 114.69
MA022 | 122.89 | 114.69
MA023 | 122.89 | 114.69
MA024 | 113.70 | 106.13
MA025 | 122.89 | 114.69
MA026 | 113.70 | 106.13
MA027 | 122.89 | 114.69
MA028 | 122.89 | 114.69
MA029 | 113.70 | 106.13
MA031 | 122.89 | 114.69
MA032 | 122.89 | 114.69
MA033 | 122.89 | 114.69
MA034 | 113.70 | 106.13
MA035 | 113.70 | 106.13
MA036 | 122.89 | 114.69
MA037 | 113.70 | 106.13
MA039 | 113.70 | 106.13
MA040 | 122.89 | 114.69
MA041 | 113.70 | 106.13
MA042 | 122.89 | 114.69
MA043 | 113.70 | 106.13
MA044 | 122.89 | 114.69
MA045 | 122.89 | 114.69
MA046 | 123.18 | 114.98
MA047 | 123.18 | 114.98
MA048 | 122.89 | 114.69
MA050 | 113.70 | 106.13
MA051 | 113.70 | 106.13
MA053 | 122.89 | 114.69
MA054 | 122.89 | 114.69
MA055 | 122.89 | 114.69
MA056 | 122.89 | 114.69
MA057 | 122.89 | 114.69
MA059 | 122.89 | 114.69
MA060 | 113.70 | 106.13
MA061 | 122.89 | 114.69
MA063 | 122.89 | 114.69
MA065 | 122.89 | 114.69
MA066 | 113.70 | 106.13
MA067 | 122.89 | 114.69
MA069 | 122.89 | 114.69
MA070 | 122.89 | 114.69
MA072 | 122.89 | 114.69
MA073 | 122.89 | 114.69
MA074 | 122.89 | 114.69
MA075 | 122.89 | 114.69
MA076 | 113.70 | 106.13
MA077 | 113.70 | 106.13
MA078 | 113.70 | 106.13
MA079 | 122.89 | 114.69
MA080 | 113.70 | 106.13
MA081 | 113.70 | 106.13
MA082 | 113.70 | 106.13
MA084 | 113.70 | 106.13
MA085 | 113.70 | 106.13
MA086 | 113.70 | 106.13
MA087 | 113.70 | 106.13
MA088 | 113.70 | 106.13
MA089 | 122.89 | 114.69
MA090 | 122.89 | 114.69
MA091 | 122.89 | 114.69
MA092 | 122.89 | 114.69
MA093 | 122.89 | 114.69
MA094 | 114.15 | 106.54
MA095 | 123.18 | 114.98
MA096 | 114.15 | 106.54
MA098 | 122.89 | 114.69
MA099 | 122.89 | 114.69
MA100 | 113.70 | 106.13
MA101 | 122.89 | 114.69
MA105 | 113.70 | 106.13
MA106 | 113.70 | 106.13
MA107 | 113.70 | 106.13
MA108 | 113.70 | 106.13
MA109 | 122.89 | 114.69
MA110 | 123.18 | 114.98
MA111 | 122.89 | 114.69
MA112 | 122.89 | 114.69
MA116 | 122.89 | 114.69
MA117 | 122.89 | 114.69
MA118 | 122.89 | 114.69
MA119 | 122.89 | 114.69
MA121 | 122.89 | 114.69
MA122 | 122.89 | 114.69
MA123 | 113.70 | 106.13
MA125 | 122.89 | 114.69
MA127 | 113.70 | 106.13
MA133 | 122.89 | 114.69
MA134 | 122.89 | 114.69
MA135 | 122.89 | 114.69
MA138 | 123.18 | 114.98
MA139 | 113.70 | 106.13
MA140 | 122.89 | 114.69
MA147 | 122.89 | 114.69
MA154 | 122.89 | 114.69
MA155 | 122.89 | 114.69
MA165 | 122.89 | 114.69
MA170 | 113.76 | 106.18
MA172 | 113.70 | 106.13
MA174 | 122.89 | 114.69
MA180 | 123.18 | 114.98
MA181 | 123.18 | 114.98
MA188 | 113.70 | 106.13
MA880 | 122.89 | 114.69
MA881 | 122.89 | 114.69
MA882 | 113.70 | 106.13
MA883 | 122.89 | 114.69
MA901 | 122.89 | 114.69
MD001 | 82.41 | 76.90
MD002 | 82.41 | 76.90
MD003 | 111.97 | 104.51
MD004 | 111.97 | 104.51
MD006 | 64.64 | 60.32
MD007 | 111.97 | 104.51
MD009 | 62.31 | 58.16
MD014 | 74.06 | 69.12
MD015 | 111.97 | 104.51
MD016 | 88.71 | 82.80
MD018 | 82.41 | 76.90
MD019 | 74.76 | 69.76
MD021 | 93.48 | 87.24
MD022 | 111.97 | 104.51
MD023 | 82.41 | 76.90
MD024 | 111.97 | 104.51
MD025 | 82.41 | 76.90
MD027 | 82.41 | 76.90
MD028 | 64.64 | 60.32
MD029 | 88.71 | 82.80
MD032 | 82.41 | 76.90
MD033 | 82.41 | 76.90
MD034 | 82.41 | 76.90
MD901 | 111.97 | 104.51
ME001 | 63.50 | 59.26
ME002 | 63.50 | 59.26
ME003 | 101.09 | 94.36
ME004 | 63.50 | 59.26
ME005 | 72.34 | 67.51
ME006 | 77.30 | 72.14
ME007 | 72.34 | 67.51
ME008 | 66.76 | 62.30
ME009 | 73.43 | 68.54
ME011 | 88.93 | 83.00
ME015 | 101.09 | 94.36
ME018 | 73.43 | 68.54
ME019 | 81.02 | 75.60
ME020 | 101.09 | 94.36
ME021 | 73.43 | 68.54
ME025 | 63.50 | 59.26
ME027 | 65.18 | 60.84
ME028 | 88.93 | 83.00
ME030 | 66.76 | 62.30
ME901 | 62.33 | 58.17
MI001 | 65.52 | 61.15
MI003 | 65.52 | 61.15
MI005 | 65.52 | 61.15
MI006 | 56.03 | 52.29
MI008 | 65.52 | 61.15
MI009 | 56.40 | 52.63
MI010 | 57.11 | 53.31
MI019 | 53.97 | 50.37
MI020 | 53.97 | 50.37
MI023 | 54.08 | 50.47
MI027 | 65.52 | 61.15
MI030 | 53.97 | 50.37
MI031 | 61.85 | 57.72
MI032 | 57.11 | 53.31
MI035 | 59.05 | 55.12
MI036 | 53.97 | 50.37
MI037 | 65.52 | 61.15
MI038 | 56.62 | 52.86
MI039 | 65.52 | 61.15
MI040 | 65.52 | 61.15
MI044 | 65.52 | 61.15
MI045 | 65.52 | 61.15
MI047 | 53.97 | 50.37
MI048 | 65.52 | 61.15
MI049 | 53.97 | 50.37
MI050 | 53.97 | 50.37
MI051 | 65.52 | 61.15
MI052 | 65.52 | 61.15
MI055 | 65.52 | 61.15
MI058 | 62.82 | 58.63
MI059 | 65.52 | 61.15
MI060 | 57.89 | 54.02
MI061 | 58.26 | 54.38
MI063 | 53.97 | 50.37
MI064 | 78.06 | 72.86
MI066 | 61.85 | 57.72
MI070 | 57.89 | 54.02
MI073 | 61.85 | 57.72
MI074 | 58.26 | 54.38
MI080 | 59.91 | 55.92
MI084 | 57.89 | 54.02
MI087 | 57.89 | 54.02
MI089 | 65.52 | 61.15
MI093 | 61.85 | 57.72
MI094 | 53.97 | 50.37
MI096 | 65.52 | 61.15
MI097 | 65.52 | 61.15
MI100 | 65.52 | 61.15
MI112 | 53.97 | 50.37
MI115 | 61.85 | 57.72
MI117 | 53.97 | 50.37
MI119 | 53.97 | 50.37
MI120 | 57.11 | 53.31
MI121 | 58.26 | 54.38
MI132 | 53.97 | 50.37
MI139 | 65.52 | 61.15
MI157 | 65.52 | 61.15
MI167 | 62.82 | 58.63
MI168 | 62.82 | 58.63
MI178 | 53.97 | 50.37
MI186 | 54.08 | 50.47
MI194 | 62.82 | 58.63
MI198 | 61.85 | 57.72
MI880 | 62.82 | 58.63
MI901 | 65.52 | 61.15
MN001 | 87.93 | 82.07
MN002 | 87.93 | 82.07
MN003 | 65.04 | 60.71
MN006 | 60.79 | 56.74
MN007 | 65.04 | 60.71
MN008 | 59.95 | 55.95
MN009 | 59.95 | 55.95
MN018 | 59.95 | 55.95
MN021 | 73.01 | 68.14
MN032 | 59.95 | 55.95
MN034 | 59.95 | 55.95
MN037 | 59.95 | 55.95
MN038 | 67.00 | 62.53
MN049 | 59.95 | 55.95
MN063 | 65.32 | 60.97
MN067 | 87.93 | 82.07
MN073 | 65.04 | 60.71
MN077 | 65.40 | 61.05
MN085 | 59.95 | 55.95
MN090 | 59.95 | 55.95
MN101 | 59.95 | 55.95
MN107 | 59.95 | 55.95
MN128 | 59.95 | 55.95
MN144 | 87.93 | 82.07
MN147 | 87.93 | 82.07
MN151 | 72.80 | 67.96
MN152 | 87.93 | 82.07
MN153 | 59.95 | 55.95
MN154 | 59.95 | 55.95
MN158 | 73.01 | 68.14
MN161 | 62.90 | 58.70
MN163 | 87.93 | 82.07
MN164 | 73.01 | 68.14
MN166 | 59.95 | 55.95
MN167 | 65.32 | 60.97
MN168 | 62.90 | 58.70
MN169 | 59.95 | 55.95
MN170 | 87.93 | 82.07
MN171 | 61.92 | 57.78
MN172 | 67.00 | 62.53
MN173 | 59.95 | 55.95
MN174 | 59.95 | 55.95
MN176 | 59.95 | 55.95
MN177 | 59.95 | 55.95
MN178 | 62.90 | 58.70
MN179 | 59.95 | 55.95
MN180 | 59.95 | 55.95
MN182 | 59.95 | 55.95
MN184 | 87.93 | 82.07
MN188 | 59.95 | 55.95
MN190 | 59.95 | 55.95
MN191 | 59.95 | 55.95
MN192 | 59.95 | 55.95
MN193 | 67.36 | 62.88
MN197 | 59.95 | 55.95
MN200 | 59.95 | 55.95
MN203 | 62.90 | 58.70
MN212 | 87.93 | 82.07
MN216 | 87.93 | 82.07
MN219 | 65.32 | 60.97
MN220 | 65.40 | 61.05
MN801 | 87.93 | 82.07
MN802 | 87.93 | 82.07
MN803 | 87.93 | 82.07
MO001 | 64.46 | 60.16
MO002 | 62.67 | 58.48
MO003 | 61.74 | 57.62
MO004 | 64.46 | 60.16
MO006 | 64.46 | 60.16
MO007 | 61.74 | 57.62
MO008 | 61.74 | 57.62
MO009 | 61.74 | 57.62
MO010 | 61.74 | 57.62
MO014 | 61.74 | 57.62
MO016 | 61.74 | 57.62
MO017 | 62.67 | 58.48
MO030 | 62.67 | 58.48
MO037 | 61.74 | 57.62
MO040 | 61.74 | 57.62
MO053 | 62.67 | 58.48
MO058 | 61.74 | 57.62
MO064 | 61.74 | 57.62
MO065 | 61.74 | 57.62
MO072 | 61.74 | 57.62
MO074 | 61.74 | 57.62
MO107 | 61.74 | 57.62
MO129 | 61.74 | 57.62
MO133 | 61.74 | 57.62
MO145 | 61.74 | 57.62
MO149 | 61.74 | 57.62
MO188 | 61.74 | 57.62
MO190 | 61.74 | 57.62
MO192 | 61.74 | 57.62
MO193 | 62.67 | 58.48
MO196 | 62.67 | 58.48
MO197 | 62.67 | 58.48
MO198 | 61.74 | 57.62
MO199 | 64.46 | 60.16
MO200 | 61.74 | 57.62
MO203 | 61.74 | 57.62
MO204 | 62.67 | 58.48
MO205 | 64.46 | 60.16
MO206 | 61.74 | 57.62
MO207 | 61.74 | 57.62
MO209 | 61.74 | 57.62
MO210 | 62.67 | 58.48
MO212 | 61.74 | 57.62
MO213 | 62.67 | 58.48
MO215 | 61.74 | 57.62
MO216 | 61.74 | 57.62
MO217 | 61.74 | 57.62
MO227 | 64.46 | 60.16
MS004 | 62.44 | 58.28
MS005 | 65.02 | 60.69
MS006 | 62.44 | 58.28
MS016 | 64.89 | 60.56
MS019 | 62.44 | 58.28
MS030 | 62.44 | 58.28
MS040 | 65.02 | 60.69
MS057 | 62.44 | 58.28
MS058 | 76.73 | 71.60
MS095 | 62.44 | 58.28
MS103 | 76.73 | 71.60
MS107 | 62.44 | 58.28
MS128 | 62.44 | 58.28
MS301 | 65.02 | 60.69
MT001 | 83.63 | 78.06
MT002 | 74.04 | 69.12
MT003 | 69.28 | 64.65
MT004 | 80.55 | 75.18
MT006 | 65.26 | 60.92
MT015 | 70.71 | 65.99
MT033 | 75.28 | 70.25
MT036 | 70.71 | 65.99
MT901 | 83.63 | 78.06
NC001 | 63.68 | 59.43
NC002 | 76.08 | 71.00
NC003 | 69.77 | 65.11
NC004 | 60.35 | 56.32
NC006 | 65.90 | 61.52
NC007 | 63.68 | 59.43
NC008 | 69.77 | 65.11
NC009 | 64.73 | 60.41
NC011 | 65.90 | 61.52
NC012 | 65.90 | 61.52
NC013 | 76.08 | 71.00
NC014 | 60.35 | 56.32
NC015 | 63.68 | 59.43
NC018 | 60.35 | 56.32
NC019 | 63.68 | 59.43
NC020 | 60.35 | 56.32
NC021 | 76.08 | 71.00
NC022 | 63.68 | 59.43
NC025 | 60.35 | 56.32
NC032 | 60.35 | 56.32
NC035 | 60.91 | 56.85
NC039 | 62.69 | 58.52
NC050 | 63.44 | 59.21
NC056 | 67.09 | 62.63
NC057 | 69.77 | 65.11
NC059 | 65.90 | 61.52
NC065 | 69.77 | 65.11
NC070 | 66.37 | 61.93
NC071 | 62.69 | 58.52
NC072 | 66.09 | 61.69
NC075 | 60.35 | 56.32
NC077 | 60.35 | 56.32
NC081 | 65.90 | 61.52
NC087 | 63.68 | 59.43
NC089 | 60.35 | 56.32
NC098 | 63.68 | 59.43
NC102 | 66.37 | 61.93
NC104 | 76.08 | 71.00
NC118 | 60.35 | 56.32
NC120 | 76.08 | 71.00
NC134 | 66.37 | 61.93
NC137 | 63.68 | 59.43
NC138 | 60.35 | 56.32
NC139 | 60.35 | 56.32
NC140 | 63.68 | 59.43
NC141 | 60.35 | 56.32
NC144 | 63.68 | 59.43
NC145 | 60.35 | 56.32
NC146 | 60.35 | 56.32
NC147 | 63.68 | 59.43
NC149 | 60.35 | 56.32
NC150 | 60.35 | 56.32
NC151 | 60.58 | 56.54
NC152 | 63.68 | 59.43
NC155 | 60.35 | 56.32
NC159 | 67.09 | 62.63
NC160 | 60.35 | 56.32
NC161 | 60.35 | 56.32
NC163 | 63.44 | 59.21
NC164 | 76.08 | 71.00
NC165 | 60.35 | 56.32
NC166 | 65.90 | 61.52
NC167 | 61.47 | 57.38
NC173 | 63.68 | 59.43
NC175 | 63.68 | 59.43
NC901 | 60.35 | 56.32
ND001 | 73.01 | 68.14
ND002 | 73.01 | 68.14
ND003 | 73.01 | 68.14
ND009 | 73.01 | 68.14
ND010 | 73.01 | 68.14
ND011 | 73.01 | 68.14
ND012 | 73.01 | 68.14
ND013 | 73.01 | 68.14
ND014 | 73.01 | 68.14
ND015 | 73.01 | 68.14
ND016 | 73.01 | 68.14
ND017 | 73.01 | 68.14
ND019 | 73.01 | 68.14
ND021 | 73.01 | 68.14
ND022 | 73.01 | 68.14
ND024 | 73.01 | 68.14
ND025 | 73.01 | 68.14
ND026 | 73.01 | 68.14
ND028 | 73.01 | 68.14
ND030 | 73.01 | 68.14
ND031 | 73.01 | 68.14
ND035 | 73.01 | 68.14
ND036 | 73.01 | 68.14
ND037 | 73.01 | 68.14
ND038 | 73.01 | 68.14
ND039 | 73.01 | 68.14
ND040 | 73.01 | 68.14
ND044 | 73.01 | 68.14
ND049 | 73.01 | 68.14
ND052 | 73.01 | 68.14
ND054 | 73.01 | 68.14
ND055 | 73.01 | 68.14
ND057 | 73.01 | 68.14
ND070 | 73.01 | 68.14
ND901 | 73.01 | 68.14
NE001 | 68.21 | 63.67
NE002 | 67.32 | 62.84
NE003 | 67.18 | 62.70
NE004 | 67.18 | 62.70
NE010 | 67.18 | 62.70
NE041 | 67.18 | 62.70
NE078 | 67.18 | 62.70
NE083 | 67.18 | 62.70
NE094 | 67.18 | 62.70
NE100 | 67.18 | 62.70
NE104 | 67.18 | 62.70
NE114 | 67.18 | 62.70
NE120 | 67.18 | 62.70
NE123 | 67.18 | 62.70
NE141 | 67.18 | 62.70
NE143 | 67.18 | 62.70
NE150 | 67.18 | 62.70
NE153 | 68.21 | 63.67
NE157 | 67.18 | 62.70
NE174 | 68.21 | 63.67
NE175 | 67.92 | 63.40
NE179 | 67.18 | 62.70
NE180 | 67.92 | 63.40
NE181 | 67.18 | 62.70
NE182 | 67.18 | 62.70
NH001 | 90.88 | 84.82
NH002 | 96.56 | 90.11
NH003 | 94.11 | 87.84
NH004 | 94.11 | 87.84
NH005 | 102.87 | 96.01
NH006 | 94.11 | 87.84
NH007 | 81.03 | 75.62
NH008 | 94.11 | 87.84
NH009 | 83.65 | 78.06
NH010 | 96.13 | 89.72
NH011 | 73.74 | 68.83
NH012 | 78.55 | 73.32
NH013 | 94.11 | 87.84
NH014 | 94.11 | 87.84
NH015 | 73.74 | 68.83
NH016 | 73.74 | 68.83
NH022 | 113.70 | 106.13
NH888 | 96.56 | 90.11
NH901 | 90.88 | 84.82
NJ002 | 107.42 | 100.24
NJ003 | 107.42 | 100.24
NJ004 | 91.68 | 85.57
NJ006 | 110.00 | 102.68
NJ007 | 107.69 | 100.51
NJ008 | 107.69 | 100.51
NJ009 | 91.68 | 85.57
NJ010 | 88.71 | 82.80
NJ011 | 110.00 | 102.68
NJ012 | 91.68 | 85.57
NJ013 | 110.00 | 102.68
NJ014 | 90.83 | 84.79
NJ015 | 91.68 | 85.57
NJ021 | 110.00 | 102.68
NJ022 | 110.00 | 102.68
NJ023 | 107.42 | 100.24
NJ025 | 107.42 | 100.24
NJ026 | 91.68 | 85.57
NJ030 | 91.68 | 85.57
NJ032 | 107.42 | 100.24
NJ033 | 110.00 | 102.68
NJ035 | 110.00 | 102.68
NJ036 | 91.68 | 85.57
NJ037 | 107.42 | 100.24
NJ039 | 107.42 | 100.24
NJ042 | 110.00 | 102.68
NJ043 | 110.00 | 102.68
NJ044 | 110.00 | 102.68
NJ046 | 107.69 | 100.51
NJ047 | 110.00 | 102.68
NJ048 | 107.69 | 100.51
NJ049 | 87.32 | 81.50
NJ050 | 107.42 | 100.24
NJ051 | 88.71 | 82.80
NJ052 | 107.42 | 100.24
NJ054 | 107.69 | 100.51
NJ055 | 110.00 | 102.68
NJ056 | 107.69 | 100.51
NJ058 | 88.71 | 82.80
NJ059 | 90.83 | 84.79
NJ060 | 107.69 | 100.51
NJ061 | 87.32 | 81.50
NJ063 | 87.32 | 81.50
NJ065 | 107.69 | 100.51
NJ066 | 107.42 | 100.24
NJ067 | 110.00 | 102.68
NJ068 | 107.42 | 100.24
NJ070 | 110.00 | 102.68
NJ071 | 110.00 | 102.68
NJ073 | 88.71 | 82.80
NJ074 | 88.71 | 82.80
NJ075 | 110.00 | 102.68
NJ077 | 91.68 | 85.57
NJ081 | 107.69 | 100.51
NJ083 | 91.68 | 85.57
NJ084 | 110.00 | 102.68
NJ086 | 107.42 | 100.24
NJ088 | 107.42 | 100.24
NJ089 | 110.00 | 102.68
NJ090 | 110.00 | 102.68
NJ092 | 107.42 | 100.24
NJ095 | 107.69 | 100.51
NJ097 | 110.00 | 102.68
NJ099 | 107.42 | 100.24
NJ102 | 107.42 | 100.24
NJ105 | 107.42 | 100.24
NJ106 | 110.00 | 102.68
NJ108 | 107.42 | 100.24
NJ109 | 107.42 | 100.24
NJ110 | 110.00 | 102.68
NJ112 | 110.00 | 102.68
NJ113 | 107.42 | 100.24
NJ114 | 110.00 | 102.68
NJ118 | 88.71 | 82.80
NJ204 | 88.71 | 82.80
NJ212 | 105.54 | 98.50
NJ214 | 107.69 | 100.51
NJ880 | 107.69 | 100.51
NJ881 | 110.00 | 102.68
NJ882 | 107.42 | 100.24
NJ902 | 88.71 | 82.80
NJ912 | 107.42 | 100.24
NM001 | 77.12 | 71.98
NM002 | 59.70 | 55.72
NM003 | 61.21 | 57.13
NM006 | 77.15 | 71.99
NM009 | 91.27 | 85.18
NM020 | 60.41 | 56.37
NM033 | 59.70 | 55.72
NM039 | 59.70 | 55.72
NM050 | 91.27 | 85.18
NM057 | 77.12 | 71.98
NM061 | 59.70 | 55.72
NM063 | 60.41 | 56.37
NM066 | 75.90 | 70.83
NM067 | 59.70 | 55.72
NM077 | 77.12 | 71.98
NM088 | 63.66 | 59.42
NV001 | 80.68 | 75.30
NV018 | 90.62 | 84.59
NV905 | 80.68 | 75.30
NY001 | 71.97 | 67.18
NY002 | 67.27 | 62.80
NY003 | 112.04 | 104.58
NY005 | 97.39 | 90.89
NY006 | 65.89 | 61.51
NY009 | 78.22 | 73.00
NY012 | 78.22 | 73.00
NY015 | 78.22 | 73.00
NY016 | 68.25 | 63.70
NY017 | 59.88 | 55.89
NY018 | 63.48 | 59.25
NY019 | 65.89 | 61.51
NY020 | 78.22 | 73.00
NY021 | 69.13 | 64.52
NY022 | 78.22 | 73.00
NY023 | 112.04 | 104.58
NY025 | 78.22 | 73.00
NY027 | 71.97 | 67.18
NY028 | 78.22 | 73.00
NY033 | 78.22 | 73.00
NY034 | 65.89 | 61.51
NY035 | 112.04 | 104.58
NY038 | 112.04 | 104.58
NY041 | 82.34 | 76.85
NY042 | 112.04 | 104.58
NY044 | 82.34 | 76.85
NY045 | 88.09 | 82.21
NY048 | 56.80 | 53.01
NY049 | 100.10 | 93.43
NY050 | 112.04 | 104.58
NY051 | 100.10 | 93.43
NY054 | 76.93 | 71.81
NY057 | 112.04 | 104.58
NY059 | 65.89 | 61.51
NY060 | 72.75 | 67.90
NY061 | 65.57 | 61.20
NY062 | 100.10 | 93.43
NY065 | 66.43 | 62.01
NY066 | 66.94 | 62.49
NY067 | 63.36 | 59.13
NY068 | 62.07 | 57.93
NY070 | 67.27 | 62.80
NY071 | 74.22 | 69.27
NY073 | 74.05 | 69.12
NY077 | 112.04 | 104.58
NY079 | 74.05 | 69.12
NY084 | 97.39 | 90.89
NY085 | 112.04 | 104.58
NY086 | 112.04 | 104.58
NY087 | 61.05 | 56.97
NY088 | 112.04 | 104.58
NY089 | 82.34 | 76.85
NY091 | 67.27 | 62.80
NY094 | 112.04 | 104.58
NY098 | 72.75 | 67.90
NY102 | 71.97 | 67.18
NY103 | 88.09 | 82.21
NY107 | 71.97 | 67.18
NY109 | 65.89 | 61.51
NY110 | 97.39 | 90.89
NY111 | 112.04 | 104.58
NY113 | 112.04 | 104.58
NY114 | 97.39 | 90.89
NY117 | 112.04 | 104.58
NY120 | 112.04 | 104.58
NY121 | 112.04 | 104.58
NY123 | 112.04 | 104.58
NY125 | 100.10 | 93.43
NY127 | 112.04 | 104.58
NY128 | 112.04 | 104.58
NY130 | 112.04 | 104.58
NY132 | 112.04 | 104.58
NY134 | 100.10 | 93.43
NY137 | 100.10 | 93.43
NY138 | 97.39 | 90.89
NY141 | 112.04 | 104.58
NY146 | 112.04 | 104.58
NY147 | 112.04 | 104.58
NY148 | 97.39 | 90.89
NY149 | 112.04 | 104.58
NY151 | 112.04 | 104.58
NY152 | 112.04 | 104.58
NY154 | 112.04 | 104.58
NY158 | 100.10 | 93.43
NY159 | 112.04 | 104.58
NY160 | 97.39 | 90.89
NY165 | 112.04 | 104.58
NY402 | 69.50 | 64.86
NY403 | 56.54 | 52.77
NY404 | 67.27 | 62.80
NY405 | 67.27 | 62.80
NY406 | 82.34 | 76.85
NY408 | 78.22 | 73.00
NY409 | 67.27 | 62.80
NY413 | 72.75 | 67.90
NY416 | 78.22 | 73.00
NY417 | 65.89 | 61.51
NY421 | 78.22 | 73.00
NY422 | 78.22 | 73.00
NY424 | 78.22 | 73.00
NY427 | 78.22 | 73.00
NY428 | 78.22 | 73.00
NY430 | 78.22 | 73.00
NY431 | 78.22 | 73.00
NY433 | 56.80 | 53.01
NY443 | 65.89 | 61.51
NY447 | 78.22 | 73.00
NY449 | 67.27 | 62.80
NY501 | 78.22 | 73.00
NY503 | 78.22 | 73.00
NY504 | 71.97 | 67.18
NY505 | 68.25 | 63.70
NY512 | 78.22 | 73.00
NY513 | 78.22 | 73.00
NY516 | 78.22 | 73.00
NY519 | 78.22 | 73.00
NY521 | 71.97 | 67.18
NY522 | 61.05 | 56.97
NY527 | 71.97 | 67.18
NY529 | 88.09 | 82.21
NY530 | 72.75 | 67.90
NY532 | 78.22 | 73.00
NY534 | 65.89 | 61.51
NY535 | 78.22 | 73.00
NY538 | 78.22 | 73.00
NY541 | 62.07 | 57.93
NY552 | 65.89 | 61.51
NY557 | 78.22 | 73.00
NY561 | 78.22 | 73.00
NY562 | 78.22 | 73.00
NY564 | 78.22 | 73.00
NY630 | 78.22 | 73.00
NY888 | 112.04 | 104.58
NY889 | 59.88 | 55.89
NY891 | 112.04 | 104.58
NY892 | 112.04 | 104.58
NY895 | 112.04 | 104.58
NY904 | 112.04 | 104.58
NY912 | 67.27 | 62.80
OH001 | 66.23 | 61.81
OH002 | 60.15 | 56.13
OH003 | 69.83 | 65.16
OH004 | 67.62 | 63.10
OH005 | 61.68 | 57.57
OH006 | 69.40 | 64.78
OH007 | 68.69 | 64.11
OH008 | 60.15 | 56.13
OH009 | 57.33 | 53.51
OH010 | 57.33 | 53.51
OH012 | 69.83 | 65.16
OH014 | 60.56 | 56.52
OH015 | 67.62 | 63.10
OH016 | 59.17 | 55.23
OH018 | 59.17 | 55.23
OH019 | 59.61 | 55.63
OH020 | 57.33 | 53.51
OH021 | 61.68 | 57.57
OH022 | 61.68 | 57.57
OH024 | 57.33 | 53.51
OH025 | 69.83 | 65.16
OH026 | 58.28 | 54.39
OH027 | 69.83 | 65.16
OH028 | 61.05 | 56.98
OH029 | 67.66 | 63.14
OH030 | 57.33 | 53.51
OH031 | 68.69 | 64.11
OH032 | 57.91 | 54.05
OH033 | 57.33 | 53.51
OH034 | 57.91 | 54.05
OH035 | 57.33 | 53.51
OH036 | 57.60 | 53.76
OH037 | 57.33 | 53.51
OH038 | 67.62 | 63.10
OH039 | 57.33 | 53.51
OH040 | 57.33 | 53.51
OH041 | 57.33 | 53.51
OH042 | 69.83 | 65.16
OH043 | 66.23 | 61.81
OH044 | 60.15 | 56.13
OH045 | 57.33 | 53.51
OH046 | 57.33 | 53.51
OH047 | 57.33 | 53.51
OH049 | 67.62 | 63.10
OH050 | 57.33 | 53.51
OH053 | 57.33 | 53.51
OH054 | 59.75 | 55.76
OH056 | 57.33 | 53.51
OH058 | 57.33 | 53.51
OH059 | 66.23 | 61.81
OH060 | 57.33 | 53.51
OH061 | 58.66 | 54.74
OH062 | 61.68 | 57.57
OH063 | 57.33 | 53.51
OH066 | 57.33 | 53.51
OH067 | 57.33 | 53.51
OH069 | 57.33 | 53.51
OH070 | 66.23 | 61.81
OH071 | 69.40 | 64.78
OH072 | 57.33 | 53.51
OH073 | 69.83 | 65.16
OH074 | 58.94 | 55.01
OH075 | 57.33 | 53.51
OH076 | 57.33 | 53.51
OH077 | 57.33 | 53.51
OH078 | 57.33 | 53.51
OH079 | 66.23 | 61.81
OH080 | 58.73 | 54.81
OH081 | 59.17 | 55.23
OH082 | 57.48 | 53.64
OH083 | 66.23 | 61.81
OH085 | 69.40 | 64.78
OH086 | 57.33 | 53.51
OH880 | 69.83 | 65.16
OH882 | 69.83 | 65.16
OK002 | 63.25 | 59.04
OK005 | 61.53 | 57.43
OK006 | 60.69 | 56.64
OK024 | 60.69 | 56.64
OK027 | 60.69 | 56.64
OK032 | 60.69 | 56.64
OK033 | 61.53 | 57.43
OK044 | 60.69 | 56.64
OK062 | 60.69 | 56.64
OK067 | 60.69 | 56.64
OK073 | 61.53 | 57.43
OK095 | 62.39 | 58.23
OK096 | 60.69 | 56.64
OK099 | 60.69 | 56.64
OK111 | 60.69 | 56.64
OK118 | 60.69 | 56.64
OK139 | 63.25 | 59.04
OK142 | 61.53 | 57.43
OK146 | 60.69 | 56.64
OK148 | 62.39 | 58.23
OK901 | 63.25 | 59.04
OR001 | 80.90 | 75.49
OR002 | 80.90 | 75.49
OR003 | 82.60 | 77.10
OR005 | 76.87 | 71.75
OR006 | 92.96 | 86.77
OR007 | 79.03 | 73.76
OR008 | 86.85 | 81.06
OR011 | 86.85 | 81.06
OR014 | 86.85 | 81.06
OR015 | 92.35 | 86.20
OR016 | 80.90 | 75.49
OR017 | 75.44 | 70.42
OR019 | 82.12 | 76.63
OR020 | 82.60 | 77.10
OR022 | 80.90 | 75.49
OR026 | 83.61 | 78.03
OR027 | 75.44 | 70.42
OR028 | 80.90 | 75.49
OR031 | 84.14 | 78.54
OR032 | 79.03 | 73.76
OR034 | 89.29 | 83.34
PA001 | 61.91 | 57.78
PA002 | 88.71 | 82.80
PA003 | 60.02 | 56.02
PA004 | 75.55 | 70.51
PA005 | 61.91 | 57.78
PA006 | 61.91 | 57.78
PA007 | 88.71 | 82.80
PA008 | 77.32 | 72.16
PA009 | 73.68 | 68.76
PA010 | 61.91 | 57.78
PA011 | 75.55 | 70.51
PA012 | 88.71 | 82.80
PA013 | 75.16 | 70.15
PA014 | 61.91 | 57.78
PA015 | 61.91 | 57.78
PA016 | 68.56 | 63.99
PA017 | 61.91 | 57.78
PA018 | 61.91 | 57.78
PA019 | 63.53 | 59.30
PA020 | 69.75 | 65.10
PA021 | 63.53 | 59.30
PA022 | 70.97 | 66.23
PA023 | 88.71 | 82.80
PA024 | 75.55 | 70.51
PA026 | 62.95 | 58.74
PA027 | 59.66 | 55.67
PA028 | 80.57 | 75.21
PA029 | 64.45 | 60.15
PA030 | 60.02 | 56.02
PA031 | 65.42 | 61.06
PA032 | 63.14 | 58.92
PA033 | 62.95 | 58.74
PA034 | 67.50 | 62.99
PA035 | 77.32 | 72.16
PA036 | 78.53 | 73.30
PA037 | 68.56 | 63.99
PA038 | 60.02 | 56.02
PA039 | 72.72 | 67.87
PA041 | 62.80 | 58.61
PA042 | 60.02 | 56.02
PA043 | 60.02 | 56.02
PA044 | 60.02 | 56.02
PA045 | 63.50 | 59.25
PA046 | 88.71 | 82.80
PA047 | 60.02 | 56.02
PA048 | 73.77 | 68.85
PA050 | 61.28 | 57.21
PA051 | 88.71 | 82.80
PA052 | 77.32 | 72.16
PA053 | 63.50 | 59.25
PA054 | 62.13 | 57.97
PA055 | 63.50 | 59.25
PA056 | 60.75 | 56.70
PA057 | 60.02 | 56.02
PA058 | 62.95 | 58.74
PA059 | 60.75 | 56.70
PA060 | 63.50 | 59.25
PA061 | 63.50 | 59.25
PA063 | 63.50 | 59.25
PA064 | 61.28 | 57.21
PA065 | 63.50 | 59.25
PA067 | 75.55 | 70.51
PA068 | 61.28 | 57.21
PA069 | 65.42 | 61.06
PA071 | 73.68 | 68.76
PA073 | 60.02 | 56.02
PA074 | 61.28 | 57.21
PA075 | 77.32 | 72.16
PA076 | 75.55 | 70.51
PA077 | 62.13 | 57.97
PA078 | 97.94 | 91.41
PA079 | 62.95 | 58.74
PA080 | 62.13 | 57.97
PA081 | 75.55 | 70.51
PA082 | 71.85 | 67.06
PA083 | 60.54 | 56.50
PA085 | 59.66 | 55.67
PA086 | 60.75 | 56.70
PA087 | 75.16 | 70.15
PA088 | 84.22 | 78.60
PA090 | 78.53 | 73.30
PA091 | 71.59 | 66.81
PA092 | 61.43 | 57.33
RI001 | 113.76 | 106.18
RI002 | 113.76 | 106.18
RI003 | 113.76 | 106.18
RI004 | 113.76 | 106.18
RI005 | 108.67 | 101.42
RI006 | 113.76 | 106.18
RI007 | 113.76 | 106.18
RI008 | 98.91 | 92.32
RI009 | 113.76 | 106.18
RI010 | 113.76 | 106.18
RI011 | 113.76 | 106.18
RI012 | 113.76 | 106.18
RI013 | 108.67 | 101.42
RI014 | 113.76 | 106.18
RI015 | 113.76 | 106.18
RI016 | 113.76 | 106.18
RI017 | 113.76 | 106.18
RI018 | 113.76 | 106.18
RI019 | 113.76 | 106.18
RI020 | 113.76 | 106.18
RI022 | 113.76 | 106.18
RI024 | 113.76 | 106.18
RI026 | 113.76 | 106.18
RI027 | 113.76 | 106.18
RI028 | 113.76 | 106.18
RI029 | 113.76 | 106.18
RI901 | 113.76 | 106.18
RQ006 | 79.99 | 74.65
RQ007 | 74.42 | 69.46
RQ008 | 79.99 | 74.65
RQ009 | 74.42 | 69.46
RQ010 | 74.42 | 69.46
RQ011 | 79.99 | 74.65
RQ012 | 74.42 | 69.46
RQ013 | 79.99 | 74.65
RQ014 | 79.99 | 74.65
RQ015 | 79.99 | 74.65
RQ016 | 79.99 | 74.65
RQ017 | 74.42 | 69.46
RQ018 | 74.42 | 69.46
RQ019 | 79.99 | 74.65
RQ020 | 81.73 | 76.28
RQ021 | 79.99 | 74.65
RQ022 | 79.99 | 74.65
RQ023 | 79.99 | 74.65
RQ024 | 79.99 | 74.65
RQ025 | 79.99 | 74.65
RQ026 | 74.42 | 69.46
RQ027 | 79.99 | 74.65
RQ028 | 79.99 | 74.65
RQ029 | 74.42 | 69.46
RQ030 | 74.42 | 69.46
RQ031 | 74.42 | 69.46
RQ032 | 79.99 | 74.65
RQ033 | 74.42 | 69.46
RQ034 | 79.99 | 74.65
RQ035 | 74.42 | 69.46
RQ036 | 79.99 | 74.65
RQ037 | 74.42 | 69.46
RQ038 | 79.99 | 74.65
RQ039 | 81.73 | 76.28
RQ040 | 81.73 | 76.28
RQ041 | 74.42 | 69.46
RQ042 | 74.42 | 69.46
RQ043 | 74.42 | 69.46
RQ044 | 79.99 | 74.65
RQ045 | 79.99 | 74.65
RQ046 | 74.42 | 69.46
RQ047 | 79.99 | 74.65
RQ048 | 74.42 | 69.46
RQ049 | 79.99 | 74.65
RQ050 | 79.99 | 74.65
RQ052 | 74.42 | 69.46
RQ053 | 79.99 | 74.65
RQ054 | 79.99 | 74.65
RQ055 | 74.42 | 69.46
RQ056 | 79.99 | 74.65
RQ057 | 74.42 | 69.46
RQ058 | 74.42 | 69.46
RQ059 | 74.42 | 69.46
RQ060 | 74.42 | 69.46
RQ061 | 74.42 | 69.46
RQ062 | 74.42 | 69.46
RQ063 | 79.99 | 74.65
RQ064 | 79.99 | 74.65
RQ065 | 74.42 | 69.46
RQ066 | 74.42 | 69.46
RQ067 | 74.42 | 69.46
RQ068 | 74.42 | 69.46
RQ069 | 74.42 | 69.46
RQ070 | 79.99 | 74.65
RQ071 | 74.42 | 69.46
RQ072 | 79.99 | 74.65
RQ073 | 74.42 | 69.46
RQ074 | 74.42 | 69.46
RQ075 | 79.99 | 74.65
RQ077 | 79.99 | 74.65
RQ080 | 74.42 | 69.46
RQ081 | 79.99 | 74.65
RQ082 | 79.99 | 74.65
RQ083 | 79.99 | 74.65
RQ901 | 79.99 | 74.65
RQ911 | 79.99 | 74.65
SC001 | 69.37 | 64.74
SC002 | 70.12 | 65.44
SC003 | 64.01 | 59.74
SC004 | 64.01 | 59.74
SC005 | 64.01 | 59.74
SC007 | 66.56 | 62.12
SC008 | 64.01 | 59.74
SC015 | 62.29 | 58.14
SC016 | 64.01 | 59.74
SC018 | 64.01 | 59.74
SC019 | 64.01 | 59.74
SC020 | 64.01 | 59.74
SC021 | 62.29 | 58.14
SC022 | 69.77 | 65.11
SC023 | 64.01 | 59.74
SC024 | 69.37 | 64.74
SC025 | 64.01 | 59.74
SC026 | 65.32 | 60.96
SC027 | 64.01 | 59.74
SC028 | 62.29 | 58.14
SC029 | 64.01 | 59.74
SC030 | 62.29 | 58.14
SC031 | 62.29 | 58.14
SC032 | 64.01 | 59.74
SC033 | 62.29 | 58.14
SC034 | 64.01 | 59.74
SC035 | 62.29 | 58.14
SC036 | 69.77 | 65.11
SC037 | 64.01 | 59.74
SC046 | 69.77 | 65.11
SC056 | 69.37 | 64.74
SC057 | 69.37 | 64.74
SC059 | 62.29 | 58.14
SC911 | 70.12 | 65.44
SD010 | 66.43 | 61.99
SD011 | 63.95 | 59.69
SD014 | 63.95 | 59.69
SD016 | 66.43 | 61.99
SD021 | 63.95 | 59.69
SD026 | 63.95 | 59.69
SD034 | 63.95 | 59.69
SD035 | 69.49 | 64.85
SD036 | 63.95 | 59.69
SD037 | 63.95 | 59.69
SD039 | 66.43 | 61.99
SD043 | 63.95 | 59.69
SD045 | 63.95 | 59.69
SD047 | 63.95 | 59.69
SD048 | 63.95 | 59.69
SD055 | 63.95 | 59.69
SD056 | 63.95 | 59.69
SD057 | 63.95 | 59.69
SD058 | 63.95 | 59.69
SD059 | 63.95 | 59.69
TN001 | 64.89 | 60.56
TN002 | 60.17 | 56.16
TN003 | 60.52 | 56.50
TN004 | 65.78 | 61.39
TN005 | 71.91 | 67.12
TN006 | 60.17 | 56.16
TN007 | 60.17 | 56.16
TN012 | 60.52 | 56.50
TN013 | 59.67 | 55.69
TN020 | 71.91 | 67.12
TN024 | 59.67 | 55.69
TN026 | 59.67 | 55.69
TN035 | 71.91 | 67.12
TN038 | 60.17 | 56.16
TN042 | 59.67 | 55.69
TN054 | 60.17 | 56.16
TN062 | 59.67 | 55.69
TN065 | 60.52 | 56.50
TN066 | 60.17 | 56.16
TN076 | 60.17 | 56.16
TN079 | 71.91 | 67.12
TN088 | 60.52 | 56.50
TN113 | 60.52 | 56.50
TN117 | 65.78 | 61.39
TN903 | 71.91 | 67.12
TQ901 | 112.56 | 105.07
TX001 | 81.14 | 75.73
TX003 | 68.93 | 64.33
TX004 | 77.52 | 72.35
TX005 | 73.60 | 68.70
TX006 | 71.32 | 66.58
TX007 | 63.24 | 59.03
TX008 | 72.72 | 67.87
TX009 | 83.20 | 77.66
TX010 | 62.37 | 58.21
TX011 | 62.37 | 58.21
TX012 | 73.60 | 68.70
TX014 | 62.37 | 58.21
TX016 | 59.85 | 55.86
TX017 | 73.60 | 68.70
TX018 | 62.37 | 58.21
TX019 | 59.85 | 55.86
TX021 | 59.85 | 55.86
TX023 | 71.27 | 66.51
TX025 | 63.24 | 59.03
TX027 | 83.20 | 77.66
TX028 | 62.52 | 58.35
TX029 | 62.52 | 58.35
TX030 | 62.37 | 58.21
TX031 | 81.14 | 75.73
TX032 | 73.60 | 68.70
TX034 | 71.27 | 66.51
TX035 | 60.00 | 55.99
TX037 | 71.27 | 66.51
TX039 | 59.85 | 55.86
TX042 | 59.85 | 55.86
TX044 | 59.85 | 55.86
TX046 | 62.52 | 58.35
TX048 | 59.85 | 55.86
TX049 | 59.85 | 55.86
TX051 | 62.52 | 58.35
TX062 | 62.52 | 58.35
TX064 | 62.52 | 58.35
TX065 | 63.24 | 59.03
TX072 | 59.85 | 55.86
TX073 | 62.52 | 58.35
TX075 | 59.85 | 55.86
TX079 | 62.37 | 58.21
TX081 | 59.85 | 55.86
TX085 | 86.42 | 80.65
TX087 | 81.14 | 75.73
TX095 | 83.20 | 77.66
TX096 | 59.85 | 55.86
TX105 | 59.85 | 55.86
TX111 | 63.82 | 59.57
TX114 | 59.85 | 55.86
TX128 | 83.20 | 77.66
TX134 | 59.85 | 55.86
TX137 | 62.37 | 58.21
TX147 | 59.85 | 55.86
TX152 | 59.85 | 55.86
TX158 | 62.37 | 58.21
TX163 | 72.72 | 67.87
TX164 | 72.72 | 67.87
TX173 | 63.24 | 59.03
TX174 | 72.72 | 67.87
TX175 | 59.85 | 55.86
TX177 | 62.52 | 58.35
TX178 | 59.85 | 55.86
TX183 | 59.85 | 55.86
TX189 | 59.85 | 55.86
TX193 | 71.32 | 66.58
TX197 | 62.37 | 58.21
TX201 | 59.85 | 55.86
TX202 | 62.52 | 58.35
TX206 | 63.24 | 59.03
TX208 | 62.37 | 58.21
TX210 | 62.37 | 58.21
TX217 | 59.85 | 55.86
TX224 | 62.52 | 58.35
TX236 | 62.37 | 58.21
TX242 | 59.85 | 55.86
TX257 | 62.37 | 58.21
TX259 | 81.14 | 75.73
TX263 | 59.85 | 55.86
TX264 | 81.14 | 75.73
TX266 | 81.14 | 75.73
TX272 | 59.85 | 55.86
TX284 | 59.85 | 55.86
TX298 | 59.85 | 55.86
TX300 | 59.85 | 55.86
TX302 | 72.72 | 67.87
TX303 | 71.32 | 66.58
TX309 | 59.85 | 55.86
TX313 | 72.72 | 67.87
TX322 | 81.14 | 75.73
TX327 | 62.37 | 58.21
TX330 | 59.85 | 55.86
TX332 | 59.85 | 55.86
TX335 | 59.85 | 55.86
TX341 | 69.94 | 65.28
TX343 | 71.32 | 66.58
TX349 | 77.52 | 72.35
TX350 | 71.32 | 66.58
TX358 | 59.85 | 55.86
TX372 | 59.85 | 55.86
TX376 | 59.85 | 55.86
TX377 | 81.14 | 75.73
TX378 | 60.00 | 55.99
TX381 | 59.85 | 55.86
TX392 | 83.20 | 77.66
TX395 | 61.83 | 57.70
TX396 | 59.85 | 55.86
TX397 | 59.85 | 55.86
TX421 | 59.85 | 55.86
TX431 | 77.52 | 72.35
TX432 | 68.93 | 64.33
TX433 | 77.52 | 72.35
TX434 | 83.20 | 77.66
TX435 | 83.20 | 77.66
TX436 | 83.20 | 77.66
TX439 | 68.93 | 64.33
TX440 | 73.60 | 68.70
TX441 | 73.60 | 68.70
TX444 | 62.37 | 58.21
TX445 | 62.52 | 58.35
TX447 | 62.52 | 58.35
TX448 | 62.52 | 58.35
TX449 | 59.85 | 55.86
TX452 | 71.32 | 66.58
TX454 | 59.85 | 55.86
TX455 | 80.15 | 74.80
TX456 | 71.11 | 66.37
TX457 | 67.12 | 62.64
TX458 | 62.37 | 58.21
TX459 | 69.94 | 65.28
TX461 | 63.67 | 59.44
TX470 | 62.37 | 58.21
TX472 | 62.37 | 58.21
TX480 | 81.14 | 75.73
TX481 | 62.37 | 58.21
TX482 | 62.37 | 58.21
TX483 | 73.60 | 68.70
TX484 | 79.48 | 74.18
TX485 | 59.85 | 55.86
TX486 | 60.84 | 56.77
TX488 | 59.85 | 55.86
TX493 | 83.20 | 77.66
TX495 | 77.52 | 72.35
TX497 | 62.52 | 58.35
TX498 | 63.82 | 59.57
TX499 | 62.37 | 58.21
TX500 | 59.85 | 55.86
TX505 | 73.60 | 68.70
TX509 | 63.24 | 59.03
TX511 | 59.85 | 55.86
TX512 | 59.85 | 55.86
TX514 | 62.37 | 58.21
TX516 | 59.85 | 55.86
TX519 | 59.85 | 55.86
TX522 | 83.20 | 77.66
TX523 | 63.82 | 59.57
TX526 | 83.35 | 77.79
TX533 | 83.20 | 77.66
TX534 | 80.15 | 74.80
TX535 | 59.85 | 55.86
TX537 | 59.85 | 55.86
TX542 | 62.37 | 58.21
TX546 | 62.37 | 58.21
TX559 | 83.20 | 77.66
TX560 | 73.60 | 68.70
TX901 | 73.60 | 68.70
UT002 | 67.70 | 63.18
UT003 | 67.70 | 63.18
UT004 | 67.70 | 63.18
UT006 | 72.77 | 67.91
UT007 | 67.70 | 63.18
UT009 | 67.70 | 63.18
UT011 | 67.70 | 63.18
UT014 | 82.77 | 77.25
UT015 | 82.77 | 77.25
UT016 | 82.77 | 77.25
UT020 | 67.70 | 63.18
UT021 | 69.72 | 65.08
UT022 | 67.70 | 63.18
UT025 | 67.70 | 63.18
UT026 | 67.70 | 63.18
UT028 | 82.77 | 77.25
UT029 | 82.77 | 77.25
UT030 | 67.70 | 63.18
UT031 | 72.77 | 67.91
VA001 | 75.94 | 70.88
VA002 | 60.17 | 56.16
VA003 | 75.94 | 70.88
VA004 | 111.97 | 104.51
VA005 | 68.89 | 64.29
VA006 | 75.94 | 70.88
VA007 | 68.89 | 64.29
VA010 | 57.95 | 54.09
VA011 | 60.62 | 56.57
VA012 | 75.94 | 70.88
VA013 | 61.31 | 57.22
VA014 | 61.31 | 57.22
VA015 | 54.52 | 50.89
VA016 | 77.03 | 71.89
VA017 | 75.94 | 70.88
VA018 | 54.52 | 50.89
VA019 | 111.97 | 104.51
VA020 | 68.89 | 64.29
VA021 | 54.52 | 50.89
VA022 | 55.73 | 52.01
VA023 | 55.73 | 52.01
VA024 | 54.52 | 50.89
VA025 | 75.94 | 70.88
VA028 | 111.97 | 104.51
VA030 | 54.52 | 50.89
VA031 | 60.17 | 56.16
VA032 | 60.17 | 56.16
VA034 | 54.52 | 50.89
VA035 | 111.97 | 104.51
VA036 | 77.03 | 71.89
VA037 | 54.66 | 51.00
VA038 | 54.52 | 50.89
VA039 | 75.94 | 70.88
VA040 | 54.52 | 50.89
VA041 | 75.94 | 70.88
VA042 | 60.17 | 56.16
VA044 | 55.71 | 51.99
VA046 | 111.97 | 104.51
VA901 | 68.89 | 64.29
VQ901 | 97.78 | 91.26
VT001 | 92.70 | 86.52
VT002 | 80.03 | 74.69
VT003 | 82.78 | 77.26
VT004 | 81.95 | 76.49
VT005 | 76.73 | 71.61
VT006 | 92.70 | 86.52
VT008 | 76.73 | 71.61
VT009 | 77.55 | 72.38
VT901 | 92.70 | 86.52
WA001 | 97.82 | 91.28
WA002 | 97.82 | 91.28
WA003 | 86.40 | 80.64
WA004 | 81.48 | 76.04
WA005 | 83.06 | 77.54
WA006 | 97.82 | 91.28
WA007 | 66.60 | 62.16
WA008 | 80.90 | 75.49
WA011 | 97.82 | 91.28
WA012 | 75.46 | 70.42
WA013 | 75.61 | 70.56
WA014 | 62.83 | 58.64
WA017 | 64.88 | 60.56
WA018 | 81.48 | 76.04
WA020 | 66.60 | 62.16
WA021 | 75.46 | 70.42
WA024 | 95.73 | 89.33
WA025 | 92.86 | 86.66
WA036 | 86.40 | 80.64
WA039 | 97.82 | 91.28
WA042 | 78.46 | 73.22
WA049 | 89.26 | 83.30
WA054 | 83.06 | 77.54
WA055 | 75.14 | 70.14
WA057 | 81.58 | 76.14
WA061 | 84.90 | 79.24
WA064 | 77.26 | 72.10
WA071 | 68.86 | 64.26
WI001 | 65.04 | 60.71
WI002 | 64.11 | 59.85
WI003 | 71.36 | 66.61
WI006 | 61.34 | 57.25
WI011 | 54.36 | 50.73
WI019 | 53.48 | 49.91
WI020 | 87.93 | 82.07
WI031 | 53.48 | 49.91
WI043 | 53.98 | 50.39
WI045 | 53.48 | 49.91
WI047 | 53.48 | 49.91
WI048 | 53.48 | 49.91
WI060 | 87.93 | 82.07
WI064 | 59.49 | 55.53
WI065 | 53.98 | 50.39
WI068 | 54.36 | 50.73
WI069 | 54.36 | 50.73
WI070 | 53.48 | 49.91
WI083 | 64.11 | 59.85
WI085 | 53.48 | 49.91
WI091 | 53.48 | 49.91
WI096 | 53.48 | 49.91
WI127 | 53.48 | 49.91
WI131 | 53.48 | 49.91
WI142 | 64.11 | 59.85
WI160 | 53.48 | 49.91
WI166 | 53.48 | 49.91
WI183 | 58.57 | 54.66
WI186 | 53.74 | 50.15
WI193 | 53.48 | 49.91
WI195 | 66.30 | 61.87
WI201 | 64.11 | 59.85
WI203 | 59.49 | 55.53
WI204 | 54.36 | 50.73
WI205 | 53.48 | 49.91
WI206 | 53.48 | 49.91
WI208 | 53.48 | 49.91
WI213 | 53.98 | 50.39
WI214 | 71.36 | 66.61
WI218 | 64.11 | 59.85
WI219 | 59.49 | 55.53
WI221 | 53.48 | 49.91
WI222 | 53.48 | 49.91
WI230 | 53.48 | 49.91
WI231 | 53.48 | 49.91
WI233 | 53.48 | 49.91
WI237 | 54.48 | 50.85
WI241 | 53.48 | 49.91
WI242 | 53.48 | 49.91
WI244 | 58.71 | 54.79
WI245 | 53.48 | 49.91
WI246 | 54.23 | 50.60
WI248 | 53.48 | 49.91
WI256 | 53.48 | 49.91
WI901 | 53.48 | 49.91
WV001 | 72.30 | 67.48
WV003 | 57.33 | 53.51
WV004 | 59.61 | 55.63
WV005 | 57.22 | 53.40
WV006 | 60.26 | 56.24
WV009 | 60.90 | 56.84
WV010 | 62.12 | 57.98
WV015 | 57.22 | 53.40
WV016 | 60.56 | 56.52
WV017 | 57.22 | 53.40
WV018 | 57.22 | 53.40
WV027 | 58.41 | 54.52
WV034 | 57.22 | 53.40
WV035 | 58.41 | 54.52
WV037 | 59.61 | 55.63
WV039 | 57.22 | 53.40
WV042 | 57.22 | 53.40
WV045 | 57.22 | 53.40
WV046 | 57.22 | 53.40
WY002 | 83.29 | 77.75
WY003 | 68.07 | 63.53
WY004 | 100.36 | 93.68
WY013 | 68.07 | 63.53

[FR Doc. 2018-06984 Filed 4-4-18; 8:45 am]

BILLING CODE 4210-67-P